DEPARTMENT OF JUSTICE

Antitrust Division

Notice Pursuant to the National Cooperative Research and Production Act of 1993—National Armaments Consortium

Notice is hereby given that, on August 8, 2022, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Black Sage Technologies Inc., Boise, ID; Carnegie Robotics LLC, Pittsburgh, PA; Combustion Research & Flow Technology, Inc. (CRAFT Tech), Pipersville, PA; Mid-America Applied Technologies Corporation, Chagrin Falls, OH; Primus Metals, Inc. dba Primus Aerospace, Lakewood, CO; Product Development Associates, Inc., Burnsville, MN; RunSafe Security, Inc., McLean, VA; and WPI Services, LLC dba Systecon North America, Juno Beach, FL, have been added as parties to this venture.

Also, Adsys Controls, Inc., Irvine, CA; ColdQuanta, Inc., Boulder, CO; Del Sigma Technologies LLC, Rockford, MI; Inertialwave, Inc, Manhattan Beach, CA; ITT Enidine, Inc., Orchard Park, NY; KGMade LLC, Norcross, GA; Matrix International Security Training Intelligence Center, Inc., Roswell, NM; Photon Flux LLC, Huntsville, AL; Prasad, Sarita, Albuquerque, NM; Protonex LLC dba PNI Sensor, Santa Rosa, CA; Southern Research Institute, Birmingham, AL; Summit Information Solutions, Inc., Glen Allen, VA; and Syntec Technologies, Inc., Rochester, NY, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on May 31, 2022. A notice was published in the Federal Register pursuant to Section 6(b) of the Act on June 15, 2022 (87 FR 36147).

Suzanne Morris,
Chief, Premerger and Division Statistics, Antitrust Division.

[FR Doc. 2022-19657 Filed 9-12-22; 8:45 am]

BILLING CODE 4410-11-P